SECURITIES AND EXCHANGE COMMISSION

[File No. 500-1]

In the Matter of HealthSport, Inc., Home Director, Inc., Home Theater Products International, Inc., House of Taylor Jewelry, Inc. (n/k/a Global Jewelry Concepts, Inc.), and Huifeng Bio-Pharmaceutical Technology, Inc.; Order of Suspension of Trading

December 4, 2012.

It appears to the Securities and Exchange Commission that there is a lack of current and accurate information concerning the securities of HealthSport, Inc. because it has not filed any periodic reports since the period ended September 30, 2010.

It appears to the Securities and Exchange Commission that there is a lack of current and accurate information concerning the securities of Home Director, Inc. because it has not filed any periodic reports since the period ended September 30, 2007.

It appears to the Securities and Exchange Commission that there is a lack of current and accurate information concerning the securities of Home Theater Products International, Inc. because it has not filed any periodic reports since March 31, 1995.

It appears to the Securities and Exchange Commission that there is a lack of current and accurate information concerning the securities of House of Taylor Jewelry, Inc. (n/k/a Global Jewelry Concepts, Inc.) because it has not filed any periodic since the period ended September 30, 2007.

It appears to the Securities and Exchange Commission that there is a lack of current and accurate information concerning the securities of Huifeng Bio-Pharmaceutical Technology, Inc. because it has not filed any periodic reports since the period ended September 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on December 4, 2012, through 11:59 p.m. EST on December 17, 2012.

By the Commission.
Kevin M. O'Neill,
Deputy Secretary.

[FR Doc. 2012-29596 Filed 12-4-12; 11:15 am]

BILLING CODE 8011-01-P